DEPARTMENT OF TRANSPORTATION

Federal Aviation Administration

14 CFR Part 71

[Docket No. FAA-2022-0931; Airspace Docket No. 21-AEA-20]

RIN 2120-AA66

Proposed Establishment of Area Navigation (RNAV) Routes; Northeast United States

AGENCY: Federal Aviation Administration (FAA), DOT.

ACTION: Notice of proposed rulemaking (NPRM).

SUMMARY: This action proposes to establish three low altitude United States Area Navigation (RNAV) routes (T-routes) in support of the VHF Omnidirectional Range (VOR) Minimum Operational Network (MON) Program. The purpose is to enhance the efficiency of the National Airspace System (NAS) by transitioning from a ground-based to a satellite-based navigation system.

DATES: Comments must be received on or before September 29, 2022.

ADDRESSES: Send comments on this proposal to the U.S. Department of Transportation, Docket Operations, 1200 New Jersey Avenue SE, West Building Ground Floor, Room W12-140, Washington, DC 20590; telephone: (800) 647-5527, or (202) 366-9826. You must identify FAA Docket No. FAA-2022-0931; Airspace Docket No. 21-AEA-20 at the beginning of your comments. You may also submit comments through the internet at www.regulations.gov.

FAA Order JO 7400.11F, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Paul Gallant, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would expand the availability of RNAV in the eastern United States and improve the efficient flow of air traffic within the NAS by lessening the dependency on ground-based navigation.

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2022-0931; Airspace Docket No. 21-AEA-20) and be submitted in triplicate to the Docket Management Facility (see ADDRESSES section for address and phone number). You may also submit comments through the internet at www.regulations.gov.

Commenters wishing the FAA to acknowledge receipt of their comments on this action must submit with those comments a self-addressed, stamped postcard on which the following statement is made: “Comments to FAA Docket No. FAA-2022-0931; Airspace Docket No. 21-AEA-20.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the internet at www.regulations.gov. Recently published rulemaking documents can also be accessed through the FAA's web page at www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA, 30337.

Availability and Summary of Documents for Incorporation by Reference

This document proposes to amend FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Proposal

The FAA is proposing an amendment to 14 CFR part 71 to establish three low altitude RNAV T-routes, designated T-307, T-324, and T-335, in the northeast United States to support the VOR MON Program and the transition from ground-based navigation aids.

T-307: T-307 is a proposed new route that would extend between the PEARS, NC, Fix (located approximately 38 nautical miles southeast of the Tar River, NC (TYI), VHF Omnidirectional Range and Tactical Air Navigational System (VORTAC)), and the Syracuse, NY (SYR), VORTAC. T-307 would overlay a portion of VOR Federal airway V-139 from the PEARS, NC, Fix, to the Sea Isle, NJ (SIE), VORTAC. It would overlay airway V-184 from the PADRE, PA, Fix, to the Philipsburg, PA (PSB), VORTAC. Also, it would overlay airway V-35 from the Philipsburg, PA (PSB), VORTAC to the Syracuse, NY (SYR), VORTAC.

In the description of T-307, the following waypoints (WP) are used in place of VORTACs or VHF Omnidirectional Range/Distance Measuring Equipment (VOR/DME) facilities as indicated. The OUTLA, VA, WP replaces the Cape Charles, VA (CCV), VORTAC. The ZJAAY, MD, WP replaces the Snow Hill, MD (SWL), VORTAC. The WNSTN, NJ, WP replaces the Sea Isle, NJ (SIE), VORTAC. The DLMAR, PA, WP replaces the Stonyfork, PA (SFK), VOR/DME. The STUBN, NY, WP replaces the Elmira, NY (ULW), VOR/DME.

T-324: T-324 is a proposed new route that would extend between the BRVRY, WV, WP and the BRIGS, NJ, Fix. T-324 would parallel airway V-166 from the Kessel, WV (ESL), VOR/DME to the Woodstown, NJ (OOD), VORTAC. T-324 would overlay airway V-577 from the Cedar Lake, NJ (VCN), VOR/DME to the BRIGS, NJ, Fix.

In the T-324 description, the BRVRY WP replaces the Kessel VOR/DME, and the JIIMS, NJ, WP, replaces the Cedar Lake VOR/DME.

T-335: T-335 is a proposed new route that would extend between the ZJAAY, MD, WP and the Syracuse, NY (SYR), VORTAC. The route would overlay portions of airway V-29 from the Snow Hill, MD (SWL), VORTAC to the Syracuse, NY (SYR), VORTAC.

In the description of T-335, WPs will replace certain VORTACs as follows. The ZJAAY, MD, WP replaces the Snow Hill, MD (SWL), VORTAC. The TRPOD, MD, WP replaces the Salisbury, MD (SBY), VORTAC. The BYEDN, DE, WP replaces the Dupont, DE (DQO), VORTAC. The LIMRK, PA, WP replaces the Pottstown, PA (PTW), VORTAC. The WLKES, PA, WP replaces the Wilkes-Barre, PA (LVZ), VORTAC.

The full descriptions of the above routes are listed in the proposed amendments to part 71 set forth below.

United States Area Navigation routes are published in paragraph 6011 of FAA Order JO 7400.11F, dated August 10, 2021, and effective September 15, 2021, which is incorporated by reference in 14 CFR 71.1. The United States Area Navigation routes listed in this document would be subsequently published in FAA Order JO 7400.11.

FAA Order JO 7400.11, Airspace Designations and Reporting Points, is published yearly and effective on September 15.

Regulatory Notices and Analyses

The FAA has determined that this proposed regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 14 CFR 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 6011 United States Area Navigation Routes.

* * * * *

T-307 PEARS, NC to Syracuse, NY (SYR) [New]
PEARS, NC | FIX | (Lat. 35°47′12.36″ N, long. 076°57′01.97″ W)
Norfolk, VA (ORF) | VORTAC | (Lat. 36°53′30.86″ N, long. 076°12′01.18″ W)
OUTLA, VA | WP | (Lat. 37°20′45.48″ N, long. 075°59′54.08″ W)
DUNFE, VA | FIX | (Lat. 37°53′18.83″ N, long. 075°35′29.39″ W)
ZJAAY, MD | WP | (Lat. 38°03′09.95″ N, long. 075°26′34.27″ W)
CBEAV, MD | FIX | (Lat. 38°22′19.01″ N, long. 075°15′53.18″ W)
WNSTN, NJ | WP | (Lat. 39°05′43.81″ N, long. 074°48′01.20″ W)
BRIEF, NJ | FIX | (Lat. 39°26′55.21″ N, long. 075°07′39.69″ W)
TEBEE, NJ | FIX | (Lat. 39°30′13.97″ N, long. 075°19′37.19″ W)
CHAZR, DE | WP | (Lat. 39°29′28.14″ N, long. 075°44′28.13″ W)
APEER, MD | WP | (Lat. 39°37′32.94″ N, long. 075°50′25.39″ W)
REESY, PA | WP | (Lat. 39°45′27.94″ N, long. 075°52′07.09″ W)
PADRE, PA | FIX | (Lat. 39°56′16.67″ N, long. 076°03′18.63″ W)
DELRO, PA | FIX | (Lat. 39°57′55.71″ N, long. 076°37′31.24″ W)
Harrisburg, PA (HAR) | VORTAC | (Lat. 40°18′08.06″ N, long. 077°04′10.41″ W)
PYCAT, PA | FIX | (Lat. 40°26′46.59″ N, long. 077°17′21.34″ W)
MCMAN, PA | FIX | (Lat. 40°38′16.11″ N, long. 077°34′14.31″ W)
RASHE, PA | FIX | (Lat. 40°40′36.04″ N, long. 077°38′38.94″ W)
Philipsburg, PA (PSB) | VORTAC | (Lat. 40°54′58.53″ N, long. 077°59′33.78″ W)
DLMAR, PA | WP | (Lat. 41°41′42.56″ N, long. 077°25′11.02″ W)
STUBN, NY | WP | (Lat. 42°05′38.58″ N, long. 077°01′28.68″ W)
Syracuse, NY (SYR) | VORTAC | (Lat. 43°09′37.87″ N, long. 076°12′16.41″ W)
* * * * * * *
T-324 BRVRY, WV to BRIGS, NJ [New]
BRVRY, WV | WP | (Lat. 39°13′22.68″ N, long. 078°57′47.18″ W)
BAMMY, WV | WP | (Lat. 39°24′33.13″ N, long. 078°25′45.64″ W)
BUBBI, WV | FIX | (Lat. 39°27′03.29″ N, long. 078°08′14.71″ W)
CPTAL, MD | WP | (Lat. 39°32′16.02″ N, long. 077°41′55.65″ W)
TWIRK, MD | WP | (Lat. 39°34′36.70″ N, long. 077°12′44.75″ W)
VMORT, MD | WP | (Lat. 39°39′14.53″ N, long. 076°37′49.10″ W)
SHIKA, MD | WP | (Lat. 39°42′38.62″ N, long. 076°21′13.41″ W)
TROYZ, MD | FIX | (Lat. 39°41′02.40″ N, long. 076°07′05.67″ W)
APEER, MD | WP | (Lat. 39°37′32.94″ N, long. 075°50′25.39″ W)
CHAZR, DE | WP | (Lat. 39°29′28.14″ N, long. 075°44′28.13″ W)
TEBEE, NJ | FIX | (Lat. 39°30′13.97″ N, long. 075°19′37.19″ W)
JIIMS, NJ | WP | (Lat. 39°32′15.62″ N, long. 074°58′01.72″ W)
BRIGS, NJ | FIX | (Lat. 39°31′24.72″ N, long. 074°08′19.67″ W)
* * * * * * *
T-335 ZJAAY, MD to Syracuse, NY (SYR) [New]
ZJAAY, MD | WP | (Lat. 38°03′09.95″ N, long. 075°26′34.27″ W)
TRPOD, MD | WP | (Lat. 38°20′17.30″ N, long. 075°30′28.27″ W)
Smyrna, DE (ENO) | VORTAC | (Lat. 39°13′53.93″ N, long. 075°30′57.49″ W)
BYEDN, OA | WP | (Lat. 39°40′41.60″ N, long. 075°36′24.84″ W)
MARQI, PA | WP | (Lat. 39°55′22.30″ N, long. 075°32′11.18″ W)
HOSKR, PA | WP | (Lat. 40°05′03.94″ N, long. 075°32′56.13″ W)
LIMRK, PA | WP | (Lat. 40°13′19.44″ N, long. 075°33′36.96″ W)
East Texas, PA (ETX) | VOR/DME | (Lat. 40°34′51.74″ N, long. 075°41′02.51″ W)
WLKES, PA | WP | (Lat. 41°16′22.57″ N, long. 075°41′21.60″ W)
Binghamton, NY (CFB) | VOR/DME | (Lat. 42°09′26.96″ N, long. 076°08′11.30″ W)
CORTA, NY | FIX | (Lat. 42°40′25.65″ N, long. 076°04′34.93″ W)
Syracuse, NY (SYR) | VORTAC | (Lat. 43°09′37.87″ N, long. 076°12′16.41″ W)

* * * * *

Issued in Washington, DC, on August 4, 2022.
Scott M. Rosenbloom,
Manager, Airspace Rules and Regulations.

[FR Doc. 2022-17206 Filed 8-12-22; 8:45 am]

BILLING CODE 4910-13-P